COMMITTEE FOR PURCHASE FROM PEOPLE WHO ARE BLIND OR SEVERELY DISABLED

Procurement List; Additions and Deletion

AGENCY: Committee for Purchase from People Who Are Blind or Severely Disabled.

ACTION: Additions to and deletion from procurement list.

SUMMARY: This action adds to the Procurement List products and services to be furnished by nonprofit agencies employing persons who are blind or have other severe disabilities, and deletes from the Procurement List a product previously furnished by such agencies.

EFFECTIVE DATE: October 26, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On May 9, June 27, July 18, and July 25, 2003, the Committee for Purchase From People Who Are Blind or Severely Disabled published notice (68 F.R. 24919, 38288, 42684, and 44039) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSN: Lock-Jaw-Wood Mop Handle 7920-01-452-2028.

NPA: New York City Industries for the Blind, Inc., Brooklyn, New York.

Contract Activity: Office Supplies & Paper Products Acquisition Center, New York, New York.

Product/NSN: Remanufactured Ink Jet Cartridge—(50% of the Governments Requirement).

7510-01-443-2122—HP51629A.

7510-01-443-2123—HP51626A.

NPA: Work Transition Services, San Bruno, California.

Contract Activity: Office Supplies & Paper Products Acquisition Center, New York, New York.

Services

Service Type/Location: Document Destruction,

NISH, Vienna, Virginia (Prime Contractor),

Performance to be allocated to the Nonprofit Agencies identified at the following locations: IRS Service Center, Albuquerque, New Mexico.

NPA: Adelante Development Center, Inc., Albuquerque, New Mexico,

IRS Service Center, Cheyenne, Wyoming

IRS Service Center, Colorado Springs, Colorado

IRS Service Center, Denver, Colorado

IRS Service Center, Englewood, Colorado

IRS Service Center, Lakewood, Colorado

IRS Service Center, Westminster, Colorado.

NPA: Bayaud Industries, Inc., Denver, Colorado

IRS Service Center, Las Vegas, Nevada.

NPA: Opportunity Village Association for Retarded Citizens, Las Vegas, NV,

IRS Service Center, Oakland, California;

IRS Service Center, San Jose, California.

NPA: Hope Rehabilitation Services, Santa Clara, California

IRS Service Center, Ogden, Utah.

NPA: Enable Industries Incorporated, Ogden, Utah;

IRS Service Center, Phoenix, Arizona;

IRS Service Center, Tempe, Arizona.

NPA: The Centers for Habilitation/TCH, Tempe, Arizona, IRS Service Center, Salt Lake City, Utah.

NPA: Community Foundation for the Disabled, Inc., Salt Lake City, Utah, IRS Service Center, Seattle, Washington.

NPA: Northwest Center for the Retarded, Seattle, Washington.

Contract Activity: IRS-Western Area Procurement Branch-APFW, San Francisco, California.

Service Type/Location: Forms Distribution Service, Department of Health and Human Services, Agency for Healthcare Research and Quality (AHRQ), Rockville, Maryland.

NPA: Sheltered Occupational Center of Northern Virginia, Inc., Arlington, Virginia.

Contract Activity: Agency for Healthcare Research and Quality, Rockville, Maryland.

Service Type/Location: Janitorial/Custodial, Federal Aviation Administration, Belleville SFO, Scott AFB, Illinois.

NPA: Challenge Unlimited, Inc., Alton, Illinois.

Contract Activity: Federal Aviation Administration, Des Plaines, Illinois.

Service Type/Location: Janitorial/Custodial, IRS Service Center, Ogden, Utah.

NPA: Enable Industries Incorporated, Ogden, Utah.

Contract Activity: IRS-Western Area Procurement Branch-APFW, San Francisco, California.

Deletion

On July 18, 2003, the Committee for Purchase From People Who Are Blind or Severely Disabled published notice (68 F.R. 42685) of proposed deletion to the Procurement List. After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action may not result in any additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Product/NSN: Scraper and Squeegee: 7920-00-045-2556.

NPA: L.C. Industries For The Blind, Inc., Durham, North Carolina.

Contract Activity: GSA, Southwest Supply Center, Fort Worth, Texas.

Sheryl D. Kennerly,
Director, Information Management.

[FR Doc. 03-24372 Filed 9-25-03; 8:45 am]

BILLING CODE 6353-01-P